DEPARTMENT OF HEALTH AND HUMAN SERVICES

Health Resources and Services Administration

Agency Information Collection Activities: Proposed Collection: Comment Request

In compliance with the requirement for opportunity for public comment on proposed data collection projects (section 3506(c)(2)(A) of title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129. Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Impact of Accreditation on BPHC-Supported Community Health Centers—NEW

The Bureau of Primary Health Care (BPHC) has contracted with the Joint Commission on Accreditation of Healthcare Organizations (JCAHO) for a period of three years from 2002 to 2005 to conduct comprehensive evaluations for selected BPHC-supported health centers that will encompass both a full Joint Commission accreditation survey and a review of specified governmental requirements relative to the Primary Care Effectiveness Review. Incorporated into this contract, is a research study that will examine the impact of JCAHO accreditation on BPHC-supported health centers. The reasons for conducting this study are twofold. First, in a March 2000 report, the GAO recommended to HRSA that they determine the cost effectiveness of Joint Commission accreditation and its ability to improve quality and competitiveness in community health centers (GAO/HEHS-00-39 community health centers). HRSA believes that this study will build on a 2002 report by Lewin and Associates that examined the effectiveness of accreditation on a small number of health centers. Second, although considerable anecdotal information is available regarding changes that health centers have made to prepare for or maintain accreditation, this study is designed to provide a detailed examination of the number and type of activities that health centers are engaged in relative to quality of care and patient safety subsequent to becoming accredited.

This study is a descriptive assessment of the impact of accreditation on health centers relative to changes in their approach to quality of care and patient safety. It will assess the impact in a sample of Joint Commission accredited community health centers that include migrant health centers, school based health centers, health centers for the homeless and public housing health centers. This study aims to address two key questions: (a) What do health centers do differently as a result of preparing for and maintaining accreditation? and (b) How has accreditation strengthened health centers' approach to quality, patient safety and performance improvement? The assessment will be conducted by administering two mailed questionnaires to a sample of community health centers.

Estimated Burden Hours
Survey | Number of respondents | Responses per respondent | Total responses | Hours per response | Total burden hours
Accreditation: Changes in approach to quality and safety | 100 | 1 | 100 | .33 | 33
Accreditation: Perception of Value | 100 | 4 | 400 | .25 | 100
Total | 100 |  | 500 |  | 133

Send comments to Susan G. Queen, Ph.D., HRSA Reports Clearance Officer, Room 14-45, Parklawn Building, 5600 Fishers Lane, Rockville, MD 20857. Written comments should be received within 60 days of this notice.

Dated: February 14, 2003.
Jane M. Harrison,
Director, Division of Policy Review and Coordination.

[FR Doc. 03-4313 Filed 2-24-03; 8:45 am]

BILLING CODE 4165-15-U